DEPARTMENT OF LABOR

Employment and Training Administration

[TA-W-57,871 and TA-W-57,871A]

Del Laboratories, Little Falls, NY and Union Dale, NY; Notice of Termination of Investigation

Pursuant to Section 221 of the Trade Act of 1974, as amended, an investigation was initiated on August 31, 2005 in response to a worker petition filed on behalf of workers at two locations of Del Laboratories, Little Falls, New York, and Union Dale, New York.

Two locations affected comprise two distinct worker groups. According to the Trade Act of 1974, a valid petition filed by workers must consist of three petitioning workers for a particular worker group. Neither of the two worker groups petitioned with at least three workers. Therefore, the petition regarding the investigation has been deemed invalid. Consequently, the investigation has been terminated.

Signed at Washington, DC, this 9th day of September, 2005.
Richard Church,
Certifying Officer, Division of Trade Adjustment Assistance.

[FR Doc. E5-5303 Filed 9-27-05; 8:45 am]

BILLING CODE 4510-30-P